DEPARTMENT OF HOUSING AND URBAN DEVELOPMENT

[Docket No. FR-7005-N-18]

60-Day Notice of Proposed Information Collection: Contractor's Requisition-Project Mortgages; HUD-92448

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 26, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Patricia M. Burke, Acting Director, Office of Multifamily Production, Department of Housing and Urban Development, 451 7th Street SW, Washington, DC 20410, email, Patricia.M.Burke@hud.gov, or telephone 202-402-5693. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Contractor's Requisition-Project Mortgages.

OMB Approval Number: 2502-0028.

Type of Request: Reinstatement, with change.

OMB Expiration Date: September 30, 2018.

Form Number: HUD-92448.

Description of the Need for the Information and Proposed Use: Form HUD-92448 is used by Contractors to request insured mortgage proceeds for construction costs. The information regarding completed work items is used by the Multifamily Hub Centers to ensure that payments from mortgage proceeds are made for work completed in a satisfactory manner. The work must be inspected and approved by a HUD Field Office inspector and an architect not employed by HUD. To ensure compliance with prevailing wage rates, the Field Office uses the certification on form HUD-92448 regarding prevailing wages. If the collection of information was not conducted, disbursement of mortgage proceeds and compliance with prevailing wage rates could not be monitored. 29 CFR part 3.3 requires the contractor to submit an executed document certifying adherence to requirements of the Davis Bacon and Related Acts (DBRA) and the Copeland “Anti-Kickback” Act regarding wages paid to employees. The form is completed by the contractor and approved by the project architect and a HUD Field Office inspector and must be signed. The contractor submits the completed form to HUD for review and determination of acceptability/unacceptability. Section 207(b) of the National Housing Act (Pub. L. 479, 48 Stat. 1246, 12 U.S.C. 1701 et seq.) authorizes the Secretary of the Department of Housing and Urban Development (HUD) to insure mortgages (including advances on such mortgages during construction) for construction of rental housing projects. Section 212 of the National Housing Act prevents the Secretary of HUD from insuring a project unless the principal contractor files a prevailing wage certificate. The requirements are set forth in 24 CFR 200.33, Labor Standards, for the insurance of advances and certification of compliance with labor standards and prevailing wage requirements.

Respondents: Business or other for profit.

Estimated Number of Respondents: 213.

Estimated Number of Responses: 2,556.

Frequency of Response: 12.

Average Hours per Response: 6.

Total Estimated Burden: 15,336.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including using appropriate automated collection techniques or other forms of information technology, e.g., permitting electronic submission of responses.

HUD encourages interested parties to submit comment in response to these questions.

C. Authority

Section 3507 of the Paperwork Reduction Act of 1995, 44 U.S.C. Chapter 35.

Dated: September 11, 2018.
Vance T Morris,
Special Assistant to the Assistant Secretary for Housing—Federal Housing Commissioner, H.

[FR Doc. 2018-21088 Filed 9-26-18; 8:45 am]

BILLING CODE 4210-67-P